FEDERAL COMMUNICATIONS COMMISSION

[OMB 3060-1150]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.The FCC may not conduct or sponsor a collection of information unless it displays a currently valid OMB control number. No person shall be subject to any penalty for failing to comply with a collection of information subject to the PRA that does not display a valid OMB control number.

DATES: Written PRA comments should be submitted on or before April 2, 2018. If you anticipate that you will be submitting comments, but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1150.

Title: Telecommunications Relay Services Certification Applications and Video Relay Service Compliance Requirements, CG Docket Nos. 03-123 and 10-51.

Form Number: N/A.

Type of Review: Revision of a currently approved collection.

Respondents: Business or other for-profit entities; State, Local or Tribal Government.

Number of Respondents and Responses: 72 respondents; 412 responses.

Estimated Time per Response: 0.5 hours (30 minutes) to 25 hours.

Frequency of Response: Annual, one-time and on occasion reporting requirements; Third party disclosure requirement.

Obligation to Respond: Required to obtain or retain benefits. The statutory authority for the information collection is found at section 225 of the Act, 47 U.S.C. 225. The law was enacted on July 26, 1990, as Title IV of the ADA, Public Law 101-336, 104 Stat. 327, 366-69.

Total Annual Burden: 1,179 hours.

Total Annual Cost: $24,000.

Nature and Extent of Confidentiality: An assurance of confidentiality is not offered because this information collection does not require the collection of personally identifiable information (PII) from individuals.

Privacy Impact Assessment: No impact(s).

Needs and Uses: In 1991, the Commission adopted rules governing the telecommunications relay services (TRS) program and procedures for each state TRS program to apply for initial Commission certification and renewal of Commission certification of each state program. Telecommunications Services for Individuals with Hearing and Speech Disabilities, and the Americans with Disabilities Act of 1990, Report and Order and Request for Comments, document FCC 91-213, published at 56 FR 36729, August 1, 1991 (1991 TRS Implementation Order).

On July 28, 2011, the Commission released Structure and Practices of the Video Relay Service Program, document FCC 11-118, published at 76 FR 47469, August 5, 2011, and at 76 FR 47476, August 5, 2011 (VRS Certification Order), adopting final and interim rules—designed to help prevent fraud and abuse, and ensure quality service, in the provision of internet-based forms of Telecommunications Relay Services (iTRS). The VRS Certification Order amended the Commission's process for certifying internet-based TRS (iTRS) providers as eligible for payment from the Interstate TRS Fund (Fund) for their provision of iTRS to ensure that iTRS providers receiving certification are qualified to provide iTRS in compliance with the Commission's rules and to eliminate waste, fraud and abuse through improved oversight of such providers.

On October 17, 2011, the Commission released Structure and Practices of the Video Relay Service Program, Memorandum Opinion and Order, Order, and Further Notice of Proposed Rulemaking, document FCC 11-155, published at 76 FR 67070, October 31, 2011 (VRS Certification Reconsideration Order), modifying two aspects of information collection requirements contained in the VRS Certification Order.

The VRS Certification Order as modified by the VRS Certification Reconsideration contains information collection requirements with respect to the following eight requirements, all of which are intended to ensure that providers are qualified to provide iTRS in compliance with the Commission's rules with no or minimal service interruption.

(A) Required Evidence for Submission for Eligibility Certification. Each potential iTRS provider must submit full and detailed information in its application for certification that shows its ability to comply with the Commission's rules. Each applicant must provide a detailed description of how it will meet all non-waived mandatory minimum standards applicable to each form of TRS offered, including documentary and other evidence.

In the case of VRS, such documentary and other evidence shall also demonstrate that the applicant leases, licenses or has acquired its own facilities and operates such facilities associated with TRS call centers and employs communications assistants, on a full or part-time basis, to staff such call centers at the date of the application. Such evidence shall include but not be limited to:

1. For VRS applicants operating five or fewer call centers within the United States, a copy of each deed or lease for each call center;

2. For VRS applicants operating more than five call centers within the United States, a copy of each deed or lease for a representative sampling of five call centers;

3. For VRS applicants operating call centers outside of the United States, a copy of each deed or lease for each call center;

4. For all applicants, a list of individuals or entities that hold at least a 10 percent equity interest in the applicant, have the power to vote 10 percent or more of the securities of the applicant, or exercise de jure or de facto control over the applicant, a description of the applicant's organizational structure, and the names of its executives, officers, members of its board of directors, general partners (in the case of a partnership), and managing members (in the case of a limited liability company);

5. For all applicants, a list of the number of applicant's full-time and part-time employees involved in TRS operations, including and divided by the following positions: Executives and officers; video phone installers (in the case of VRS), communications assistants, and persons involved in marketing and sponsorship activities;

6. Where applicable, a description of the call center infrastructure, and for all core call center functions (automatic call distribution, routing, call setup, mapping, call features, billing for compensation from the TRS fund, and registration) a statement whether such equipment is owned, leased or licensed (and from whom if leased or licensed) and proofs of purchase, leases or license agreements, including a complete copy of any lease or license agreement for automatic call distribution;

7. For all applicants, copies of employment agreements for all of the provider's employees directly involved in TRS operations, executives and communications assistants, and a list of names of employees directly involved in TRS operations need not be submitted with the application, but must be retained by the applicant and submitted to the Commission upon request; and

8. For all applicants, a list of all sponsorship arrangements relating to internet-based TRS, including a description of any associated written agreements; copies of all such arrangements and agreements must be retained by the applicant for three years from the date of the application, and submitted to the Commission upon request.

(B) Submission of Annual Report. Providers submit annual reports that include updates to the information listed under Section A above or certify that there are no changes to the information listed under Section A above.

(C) Requiring Providers to Seek Prior Authorization of Voluntary Interruption of Service. A VRS provider seeking to voluntarily interrupt service for a period of 30 minutes or more in duration must first obtain Commission authorization by submitting a written request to the Commission's Consumer and Governmental Affairs Bureau (CGB) at least 60 days prior to any planned service interruption, with detailed information of:

(i) Its justification for such interruption;

(ii) Its plan to notify customers about the impending interruption; and

(iii) Its plans for resuming service, so as to minimize the impact of such disruption on consumers through a smooth transition of temporary service to another provider, and restoration of its service at the completion of such interruption.

(D) Reporting of Unforeseen Service Interruptions. With respect to brief, unforeseen service interruptions or in the event of a VRS provider's voluntary service interruption of less than 30 minutes in duration, the affected provider must submit a written notification to CGB within two business days of the commencement of the service interruption, with an explanation of when and how the provider has restored service or the provider's plan to do so imminently. In the event the provider has not restored service at the time such report is filed, the provider must submit a second report within two business days of the restoration of service with an explanation of when and how the provider has restored service.

(E) Applicant Certifying Under Penalty of Perjury for Certification Application. The chief executive officer (CEO), chief financial officer (CFO), or other senior executive of an applicant for iTRS certification with first-hand knowledge of the accuracy and completeness of the information provided must certify under penalty of perjury that all application information required under the Commission's rules and orders has been provided and that all statements of fact, as well as all documentation contained in the application submission, are true, accurate, and complete.

(F) Certified Provider Certifying Under Penalty of Perjury for Annual Compliance Filings. The CEO, CFO, or other senior executive of an iTRS provider with first-hand knowledge of the accuracy and completeness of the information provided, when submitting an annual compliance report under 47 CFR 64.606(g), must certify under penalty of perjury that all information required under the Commission's rules and orders has been provided and all statements of fact, as well as all documentation contained in the annual compliance report submission, are true, accurate, and complete.

(G) Notification of Service Cessation. An applicant for certification must give its customers at least 30-days notice that it will no longer provide service should the Commission determine that the applicant's certification application does not qualify for certification under 47 CFR 64.606(a)(2) of the Commission's rules.

(H) Notification on Website. A provider must provide notification of temporary service outages to consumers on an accessible website, and the provider must ensure that the information regarding service status is updated on its website in a timely manner.

On June 10, 2013, the Commission made permanent the interim rule adopted in the VRS Certification Order requiring all applicants and providers of iTRS to certify, under penalty of perjury, that their certification applications and annual compliance reports are truthful, accurate, and complete.

Structure and Practices of the Video Relay Service Program; Telecommunications Relay Services and Speech-to-Speech Services for Individuals with Hearing and Speech Disabilities, Report and Order and Further Notice of Proposed Rulemaking, document FCC 13-82, published at 78 FR 40582, July 5, 2013.

Federal Communications Commission.
Marlene H. Dortch,
Secretary, Office of the Secretary.

[FR Doc. 2018-01753 Filed 1-29-18; 8:45 am]

BILLING CODE 6712-01-P